ENVIRONMENTAL PROTECTION AGENCY

[FRL-6952-5]

Effluent Limitations Guidelines, Pretreatment Standards, and New Source Performance Standards for the Centralized Waste Treatment Industry; Announcement of Meetings

AGENCY: Environmental Protection Agency (EPA).

ACTION: Notice; announcement of meetings.

SUMMARY: EPA is conducting two workshops on the final effluent limitations guidelines, pretreatment standards, and new source performance standards for the Centralized Waste Treatment (CWT) Industry. EPA is holding these workshops in Chicago, IL and Washington, DC. For information on the specific location, see the Addresses section below.

DATES: EPA is conducting a workshop for the final CWT effluent limitations guidelines, pretreatment standards, and new source performance standards from 9 a.m.-1 p.m. on March 27, 2001 in Chicago, IL and from 9 a.m. to 1 p.m. on April 26, 2001 in Washington, DC.

ADDRESSES: The CWT workshop on March 27, 2001 will be held at the EPA Region 5 offices in the Metcalfe Federal Building, 77 West Jackson Blvd., Room 331, Chicago, IL (312) 353-2000. The CWT workshop on April 26, 2001 will be held in EPA's Auditorium, Waterside Mall, 401 M Street, SW., Washington, DC.

FOR FURTHER INFORMATION CONTACT: Ms. Jan Matuszko at (202) 260-9126 or Mr. Timothy Connor at (202) 260-3164 or by E-mail: matuszko.jan@epa.gov or connor.timothy@epa.gov.

SUPPLEMENTARY INFORMATION: During each of these workshops, EPA plans to provide an overview of the final CWT effluent limitations guidelines, pretreatment standards, and new source performance standards and guidance on their implementation. EPA will also devote considerable time for questions and answers during this workshop.

The final CWT rule and related documents are available on the Internet at http://www.epa.gov/ost/guide.

Dated: February 28, 2001.
Geoffrey H. Grubbs,
Director, Office of Science and Technology.

[FR Doc. 01-6467 Filed 3-14-01; 8:45 am]

BILLING CODE 6560-50-P